RAILROAD RETIREMENT BOARD

Proposed Collection; Comment Request

In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Application to Act as Representative Payee; OMB 3220-0052.

Under section 12 of the Railroad Retirement Act (45 U.S.C. 231k), the Railroad Retirement Board (RRB) may pay benefits to a representative payee when an employee, spouse or survivor annuitant is incompetent or is a minor. A representative payee may be a court-appointed guardian, a statutory conservator or an individual selected by the RRB. The procedures pertaining to the appointment and responsibilities of a representative payee are prescribed in 20 CFR 266.

The forms furnished by the RRB to apply for representative payee status, and for securing the information needed to support the application follow. RRB Form AA-5, Application for Substitution of Payee, obtains information needed to determine the selection of a representative payee who will serve in the best interest of the beneficiary. RRB Form G-478, Statement Regarding Patient's Capability to Manage Benefits, obtains information about an annuitant's capability to manage their own benefits. The form is completed by the annuitant's personal physician or by a medical officer, if the annuitant is in an institution. It is not required when a court has appointed an individual or institution to manage the annuitant's funds or, in the absence of such appointment, when the annuitant is a minor. The RRB also provides representative payees with a booklet at the time of their appointment. The booklet, RRB Form RB-5, Your Duties as Representative Payee-Representative Payee's Record, advises representative payees of their responsibilities under 20 CFR 266.9 and provides a means for the representative payee to maintain records pertaining to the receipt and use of RRB benefits. The booklet is provided for the representative payee's convenience. The RRB also accepts records that are kept by representative payee's as part of a common business practice. Completion is voluntary. One response is requested of each respondent.

The RRB proposes the following changes to Form AA-5:

Page 1:

• Above Question 1: Inserted the words “and signed” in the second sentence.

• Questions 3 and 5: Added the following Note: “Does not include Power of Attorney.”

• Question 7: Revised No options to include more clarifying information to make appropriate selection.

• Question 8: Revised second sentence to “If the beneficiary lives alone or independently (no caregiver), show their address and telephone number.”

Page 2:

• Question 11b: At the end of the sentence, changed to “go to item 18.”

Page 3:

• Question 16c: Added new question “Will you charge a fee for your services?” along with Yes and No optional responses.

Page 4:

• Question 17: Removed “Remarks” and replaced with new question 17 a-d and optional Yes and No responses.

• Question 18: Renumbered “Remarks” from 17 to 18.

• Instructions for Obtaining Form G478 section: Revised last sentence to read “Return Form AA-5, and when required, Form G-478 to:”

Page 5:

• Certification Section Questions 18 and 19: Renumbered from 18 to 19 and 19 to 20 respectively and in question 19, renumbered reference “Item 18” to “Item 19”.

Page 6:

• This Space Is For RRB Use Only section: Revised to remove all information for internal use only except for the last bullet “I select the applicant as a representative payee for the beneficiary.”

Page 7:

• Receipt For Your Claim section: Changed Field Office hours of operation, corrected grammar syntax for the Legal Status bullet, added a bullet for reporting changes to bank account information, and replaced Office of Programs—Operations with ATTN: Field Service—9th Floor.

Page 8:

• Important Notices section 4 (1): Removed the dash to connect the word “offices”

The RRB proposes the following changes to Form G-478:

• Section below Form Title: Defined the address block entries for the Physician/Medical Officer entries.

• Patient Name and Address Header above Question 1: Added “Please Print” at the end of the header.

• Question 9: Added “- Must Be Completed” at the end of Certification.

The RRB proposes the following changes to Form RB-5:

• Pages 1 and 8: Changed the field office hours

Estimate of Annual Respondent Burden
Form No. | Annual responses | Time (minutes) | Burden (hours)
AA-5 | 3,000 |  | 900.0
Individuals | 2,250 | 18 | 675.0
Institutions | 750 |  | 225.0
G-478 | 2,000 | 6 | 200.0
RB-5 | 15,300 | 60 | 15,300
Individuals | 11,475 |  | 11,475
Institutions | 3,825 |  | 3,825
Total | 20,300 |  | 16,350

2. Title and purpose of information collection: Public Service Pension Questionnaires; OMB 3220-0136.

Public Law 95-216 amended the Social Security Act of 1977 by providing, in part, that spouse or survivor benefits may be reduced when the beneficiary is in receipt of a pension based on employment with a Federal, State, or local governmental unit. Initially, the reduction was equal to the full amount of the government pension. Public Law 98-21 changed the reduction to two-thirds of the amount of the government pension.

Public Law 108-203 amended the Social Security Act by changing the requirement for exemption to a public service offset, so that Federal Insurance Contributions Act (FICA) taxes are deducted from the public service wages for the last 60 months of public service employment, rather than just the last day of public service employment.

Sections 4(a)(1) and 4(f)(1) of the Railroad Retirement Act (RRA) (45 U.S.C. 231) provides that a spouse or survivor annuity should be equal in amount to what the annuitant would receive if entitled to a like benefit from the Social Security Administration. Therefore, the public service pension (PSP) provisions apply to RRA annuities. RRB regulations pertaining to the collection of evidence relating to public service pensions or worker's compensation paid to spouse or survivor applicants or annuitants are prescribed in 20 CFR 219.64c.

The RRB utilizes Form G-208, Public Service Pension Questionnaire, and Form G-212, Public Service Monitoring Questionnaire, to obtain information used to determine whether an annuity reduction is in order. Completion of the forms is voluntary. However, failure to complete the forms could result in the nonpayment of benefits. One response is requested of each respondent.

The RRB proposes no changes to the forms in the collection.

Estimate of Annual Respondent Burden
Form No. | Annual responses | Time (minutes) | Burden (hours)
G-208 | 70 | 16 | 19
G-212 | 1,100 | 15 | 275
Total | 1,170 |  | 294

3. Title and purpose of information collection: Supplement to Claim of Person Outside the United States; OMB 3220-0155.

Under the Social Security Amendments of 1983 (Pub. L. 98-21), which amends section 202(t) of the Social Security Act, effective January 1, 1985, the Tier I or the overall minimum (O/M) portion of an annuity, and Medicare benefits payable under the Railroad Retirement Act to certain beneficiaries living outside the U.S., may be withheld. The benefit withholding provision of Public Law 98-21 applies to divorced spouses, spouses, minor or disabled children, students, and survivors of railroad employees who (1) initially became eligible for Tier I amounts, O/M shares, and Medicare benefits after December 31, 1984; (2) are not U.S. citizens or U.S. nationals; and (3) have resided outside the U.S. for more than six consecutive months starting with the annuity beginning date. The benefit withholding provision does not apply, however to a beneficiary who is exempt under either a treaty obligation of the U.S., in effect on August 1, 1956, or a totalization agreement between the U.S. and the country in which the beneficiary resides, or to an individual who is exempt under other criteria specified in Public Law 98-21.

RRB Form G-45, Supplement to Claim of Person Outside the United States, is currently used by the RRB to determine applicability of the withholding provision of Public Law 98-21. Completion of the form is required to obtain or retain a benefit. One response is requested of each respondent. The RRB proposes minor non-burden impacting changes to Form G-45.

Estimate of Annual Respondent Burden
Form No. | Annual responses | Time (minutes) | Burden (hours)
G-45 | 50 | 10 | 8

4. Title and purpose of information collection: Repayment of Debt; OMB 3220-0169.

Section 2 of the Railroad Retirement Act (RRA) (45 U.S.C. 231a) provides for payment of annuities to railroad employees who are retired due to age or disability and annuities or benefits to their eligible spouses, divorced spouses, and survivors. Section 2 of the Railroad Unemployment Insurance Act (RUIA) (45 U.S.C. 352) provides for the payment of benefits to qualified railroad employees who are unemployed, but willing and able to work, and railroad employees who are unable to work due to sickness or injury. When an overpayment of RRA or RUIA benefits has occurred, prompt action is initiated to notify the annuitant or beneficiary of the overpayment and the method by which the debt may be liquidated. The overpayment recovery methods available are cash refund by check, money order, debit card and withholding of annuities or benefits due. Railroad Retirement Board (RRB) procedures pertaining to RRA annuity and benefit overpayment determinations and recovery are prescribed in 20 CFR part 255. RUIA procedures pertaining to benefit overpayment determinations are prescribed in 20 CFR part 340.

When a debt is owed on an RRA or RUIA-related debt, the RRB mails Form DRL-145, Debt Notice, to the debtor; a Form G-421, Repayment Method Form, for the debtor to indicate how they will repay the debt; a Form G-66 or G-66B, Your Rights to Review and/or Waiver, which explains what they can do if they disagree with the amount of the debt; and a Form G-66A or G-66BA, Rights Request Form, to request their right to have us review and/or waiver the debt. Completion of Form G-421F is voluntary. The RRB proposes no changes to Form G-421F.

Estimate of Annual Respondent Burden
Form No. | Annual responses | Time (minutes) | Burden (hours)
Form G-421F (RRA) activity | 360 | 5 | 30
Form G-421F (RUIA) activity | 175 | 5 | 15
Total | 535 |  | 45

Additional Information or Comments: To request more information or to obtain a copy of the information collection justification, forms, and/or supporting material, contact Kennisha Tucker at (312) 469-2591 or Kennisha.Tucker@rrb.gov. Comments regarding the information collection should be addressed to Brian Foster, Railroad Retirement Board, 844 North Rush Street, Chicago, Illinois 60611-1275 or emailed to Brian.Foster@rrb.gov. Written comments should be received within 60 days of this notice.

Brian Foster,
Clearance Officer.

[FR Doc. 2023-01316 Filed 1-23-23; 8:45 am]

BILLING CODE 7905-01-P